NUCLEAR REGULATORY COMMISSION

Atomic Safety and Licensing Board

[Docket No. 70-7015-M; ASLBP No. 10-899-02-ML-BD01]

In the Matter of Areva Enrichment Services, LLC (Eagle Rock Enrichment Facility); Notice of Hearing, (Notice of Evidentiary Hearing and Opportunity To Provide Oral and Written Limited Appearance Statements)

June 2, 2011.

Before Administrative Judges: G. Paul Bollwerk, III, Chairman, Dr. Kaye D. Lathrop, Dr. Craig M. White.

The Atomic Safety and Licensing Board hereby gives notice that it will convene an evidentiary session to receive testimony and exhibits in the “mandatory hearing” portion of this proceeding regarding the December 2008 application by AREVA Enrichment Services, LLC (AES) seeking a license under 10 CFR Parts 30, 40, and 70 authorizing (1) the construction and operation of a gas centrifuge uranium enrichment facility—denoted as the Eagle Rock Enrichment Facility (EREF)—in Bonneville County, Idaho; and (2) the receipt, possession, use, delivery, and transfer of byproduct (e.g., calibration sources), source and special nuclear material at the EREF. This evidentiary hearing session will concern environmental matters relating to the proposed issuance of the requested license. In addition, the Licensing Board gives notice that, in accordance with 10 CFR 2.315(a), it will entertain oral and written limited appearance statements from members of the public in connection with this proceeding.

A. Matters To Be Considered

As set forth by the Commission in the July 30, 2009 notice of hearing regarding this proceeding,¹ relative to environmental matters the Board is required independently to (1) determine whether the requirements of section 102(2)(A), (C) and (E) of the National Environmental Policy Act of 1969 (NEPA), 42 U.S.C. 4332(2)(A), (C), (E), and Subpart A of 10 CFR part 51 have been complied with in the proceeding; (2) determine whether the review conducted by the NRC staff pursuant to Part 51 has been adequate; (3) consider the final balance among conflicting factors contained in the record of the proceeding with a view to determining the appropriate action to be taken; and (4) determine, after weighing the environmental, economic, technical, and other benefits against the environmental and other costs, and considering reasonable alternatives, whether a license should be issued, denied, or appropriately conditioned to protect environmental values. More specifically with regard to this portion of the proceeding that concerns generally the environmental-related aspects of the AES environmental report and the associated staff final environmental impact statement (FEIS),² AES and the staff will make evidentiary presentations to the Board regarding the purpose and need for the proposed EREF; “preconstruction” activities; greenhouse gas impacts of the EREF's production power consumption; construction air quality impacts; the facility's radiological effluent monitoring program; and the status of the historic/cultural resources memorandum of agreement and associated mitigation measures.

¹ See Notice of Receipt of Application for License; Notice of Consideration of Issuance of License; Notice of Hearing and Commission Order and Order Imposing Procedures for Access to Sensitive Unclassified Non-Safeguards Information and Safeguards Information for Contention Preparation; In the Matter of Areva Enrichment Services, LLC (Eagle Rock Enrichment Facility), 74 FR 38,052, 38,054 (July 30, 2009) (CLI-09-15, 70 NRC 1, 7-8 (2009)).

² After conducting a January 2011 evidentiary hearing session concerning safety-related matters relative to the AES safety analysis report and the associated staff safety evaluation report, in an April 2011 partial initial decision the Licensing Board provided its findings and conclusions, determining that (1) the AES application contains sufficient information to support license issuance; and (2) the staff's review of the application had been adequate to support license issuance, subject to a license condition regarding the qualifications of the facility's nuclear criticality safety manager and an unresolved decommissioning funding financial assurance issue that awaits Commission consideration of a pending Board-certified question. See LBP-11-11, 73 NRC, _, _-_ (slip op. at 82-84) (Apr. 8, 2011).

B. Date, Time, and Location of Environmental-Related Portion of the Mandatory Hearing

The Board will conduct the portion of the mandatory hearing regarding environmental matters beginning at 9:30 a.m. Mountain Time (MT) on Tuesday, July 12, 2011, at the Red Lion on the Falls Convention Center, Targhee/Bonneville Rooms, 475 River Parkway, Idaho Falls, Idaho. The hearing will continue from day-to-day until concluded. AES and the staff will be parties to the mandatory hearing and will present witnesses and evidentiary material.

Any member of the public who plans to attend the mandatory hearing is advised that security measures may be employed at the entrance to the room housing the hearing, including searches of hand-carried items such as briefcases or backpacks, and is reminded to allow sufficient time for security screening.

C. Date, Time, and Location of Oral Limited Appearance Statement Sessions

Oral limited appearance sessions regarding the AREVA mandatory hearing proceeding will be on the following dates at the specified location and times:

1. Date: Sunday, July 10, 2011 (if there is sufficient interest).

Time: 3 to 5 p.m. MT.

Location: Bennion Student Union Multipurpose Room, 1784 Science Center Drive, University Place in Idaho Falls, Idaho Falls, Idaho.

2. Date: Monday, July 11, 2011 (if there is sufficient interest).

Time: 7 to 9 p.m. MT.

Location: Same as Session 1 above.

D. Participation Guidelines for Oral Limited Appearance Statements

Any person not a party, or the representative of a party, to this mandatory hearing proceeding will be permitted to make an oral statement setting forth his or her position on matters of concern relating to the proceeding. Although these statements do not constitute testimony or evidence, they nonetheless may help the Licensing Board and/or the parties in their consideration of the issues in this portion of the mandatory hearing.

Oral limited appearance statements will be entertained during the hours specified above, or such lesser time as may be necessary to accommodate the speakers who are present. In this regard, if all scheduled and unscheduled speakers present at a session have made a presentation, the Licensing Board reserves the right to terminate the session before the ending times listed above. The Board also reserves the right to cancel the Sunday afternoon and/or Monday evening sessions scheduled above if there has not been a sufficient showing of public interest as reflected by the number of preregistered speakers.

Any member of the public who plans to attend the limited appearance sessions is strongly advised to arrive early to allow time to pass through any security measures that may be employed. Attendees are also requested not to bring any unnecessary hand-carried items, such as packages, briefcases, backpacks, or other items that might need to be examined individually. Items that could readily be used as weapons will not be permitted in the room where these sessions will be held. Also, during these sessions, signs no larger than 18 inches by 18 inches will be permitted, but may not be attached to sticks, held over one's head, or moved about in the room.

The time allotted for each limited appearance statement normally will be no more than five minutes, but may be further limited depending on the number of written requests to make an oral statement that are submitted in accordance with section E below and/or the number of persons present at the designated times to ensure everyone will have an opportunity to speak. In addition, in the case of the Monday evening session, although an individual who previously addressed the Licensing Board at the Sunday afternoon limited appearance session may request an opportunity to make an additional presentation, the Board reserves the right to defer such additional presentations until after it has heard from speakers who have not had an opportunity to make an initial presentation.

E. Submitting a Request To Make an Oral Limited Appearance Statement

A person wishing to make an oral statement who has submitted a timely written request to do so will be given priority over those who have not filed such a request. To be considered timely, a written request to make an oral statement must either be mailed, faxed, or sent by e-mail so as to be received by 5 p.m. Eastern Time (ET) on Friday, July 1, 2011. The request must specify the session (Sunday or Monday) during which the requester wishes to make an oral statement. Based on its review of the requests received by July 1, 2011, the Licensing Board may decide that the Sunday afternoon and/or Monday evening sessions will not be held due to a lack of adequate interest in those sessions.

Written requests to make an oral statement should be submitted to:

Mail: Administrative Judge G. Paul Bollwerk, III, Atomic Safety and Licensing Board Panel, Mail Stop T-3F23, U.S. Nuclear Regulatory Commission, Washington, DC 20555-0001.

Fax: (301) 415-5599 (verification (301) 415-6094).

E-mail: jonathan.eser@nrc.gov and paul.bollwerk@nrc.gov.

F. Submitting Written Limited Appearance Statements

As provided in 10 CFR 2.315(a), any person not a party, or the representative of a party, to the proceeding may submit a written statement setting forth his or her position on matters of concern relating to this proceeding. Although these statements do not constitute testimony or evidence, they nonetheless may help the Board or the parties in their consideration of the issues in this proceeding.

A written limited appearance statement may be submitted at any time and should be sent to the Office of the Secretary using one of the methods prescribed below:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written limited appearance statement should be sent to the Chairman of this Licensing Board as follows:

Mail: Administrative Judge G. Paul Bollwerk, III, Atomic Safety and Licensing Board Panel, Mail Stop T-3F23, U.S. Nuclear Regulatory Commission, Washington, DC 20555-0001.

Fax: (301) 415-5599 (verification (301) 415-6094).

E-mail: paul.bollwerk@nrc.gov.

G. Availability of Documentary Information Regarding the Proceeding

The AES application and various staff documents relating to the application are available on the NRC Web site at http://www.nrc.gov/materials/fuel-cycle-fac/arevanc.html.

These and other documents relating to this proceeding are available for public inspection at the Commission's Public Document Room (PDR), located at One White Flint North, 11555 Rockville Pike (first floor), Rockville, Maryland, or electronically from the publicly-available records component of NRC's document system (ADAMS). ADAMS is accessible from the NRC Web site at http://www.nrc.gov/reading-rm/adams.html (the Public Electronic Reading Room).³ Persons who do not have access to ADAMS or who encounter problems in accessing the documents located in ADAMS should contact the NRC PDR reference staff by telephone at (800) 397-4209 or (301) 415-4737 (available between 8 a.m. and 4 p.m. ET, Monday through Friday except federal holidays), or by e-mail to pdr@nrc.gov.

³ Some documents determined by the staff to contain “sensitive” information are publicly available only in redacted form; non-sensitive documents are publicly available in their complete form. In addition, some documents that may contain information proprietary to AES are publicly available only in redacted form.

H. Information Updates to Schedule

Any updates or revisions to the mandatory hearing schedule or the schedule for limited appearance sessions can be found on the NRC Web site at http://www.nrc.gov/public-involve/public-meetings/index.cfm, or by calling (800) 368-5642, extension 5036 (available between 7 a.m. and 9 p.m. ET, Monday through Friday, except federal holidays), or by calling (301) 415-5036 (available seven days a week, twenty-four hours a day).

It is so ordered.

Dated: June 2, 2011.
For the Atomic Safety and Licensing Board.
G. Paul Bollwerk, III,
Chairman, Rockville, Maryland.

[FR Doc. 2011-14416 Filed 6-9-11; 8:45 am]

BILLING CODE 7590-01-P